DEPARTMENT OF TRANSPORTATION

Surface Transportation Board

[Section 5a Application No. 1 (Sub-No. 10)]

Household Goods Carriers Bureau Committee—Agreement

AGENCY: Surface Transportation Board.

ACTION: Extension of time to file comments and replies; correction of prior notice.

SUMMARY: The Surface Transportation Board (Board) is (1) extending the time to file comments and replies in this proceeding and (2) announcing a correction to its prior notice published in the Federal Register.

DATES: Comments are now due by April 24, 2000; replies are now due by May 8, 2000.

ADDRESSES: Send an original and 10 copies of comments and replies, referring to “Section 5a Application No. 1 (Sub-No. 10)” to: Surface Transportation Board, Office of the Secretary, Case Control Unit, 1925 K Street, N.W., Washington, DC 20423.

FOR FURTHER INFORMATION CONTACT: Joseph H. Dettmar, (202) 565-1600. [TDD for the hearing impaired: 1-800-877-8339.]

SUPPLEMENTARY INFORMATION: On February 11, 2000 at 65 FR 7098-99, we published a notice in the Federal Register requesting comments and replies from interested parties in this proceeding. Copies of the version of this notice served on the same date are available on the Board's website at “WWW.STB.DOT.GOV.” By petition received via FAX on March 10, 2000, the Household Goods Carriers' Bureau Committee requests an extension of time to file comments to April 24, 2000. By this notice, we are granting this request, for all participants, and are simultaneously extending the deadline for filing replies to May 8, 2000.

Our prior notice mistakenly inverted the dates for filing comments and replies. In view of the extension that we are granting herein, the dates in our prior notice are obsolete.

Decided: March 16, 2000.
By the Board.
Vernon A. Williams,
Secretary.

[FR Doc. 00-7088 Filed 3-21-00; 8:45 am]

BILLING CODE 4915-00-P